DEPARTMENT OF HEALTH AND HUMAN SERVICES

Centers for Medicare & Medicaid Services

Privacy Act of 1974; Retraction of a New System of Records

AGENCY: Department of Health and Human Services (HHS), Centers for Medicare & Medicaid Services (CMS).

ACTION: Notice of retraction of a new system of records.

SUMMARY: The Centers for Medicare & Medicaid Services CMS inadvertently published a new system of records titled “Post Acute Care Payment Reform/Continuity of Assessment Report and Evaluation Demonstration and Evaluation (PAC-CARE)” System No. 09-70-0569 in the Federal Register (FR) on Thursday, April 19, 2007 (72 FR 19711). CMS is withdrawing the notice due to comments received that a routine use disclosure provision necessary to carry out essential parts of the demonstration project was inadvertently omitted. The notice of a new system of records will be republished at a later date with the routine use included.

FOR FURTHER INFORMATION CONTACT: Inquiries may be directed to: CMS Privacy Officer, Division of Privacy Compliance, Enterprise Architecture and Strategy Group, Office of Information Services, CMS, Room N2-04-27, 7500 Security Boulevard, Baltimore, Maryland 21244-1850. He can also be reached at 410-786-5357 or by e-mail at walter.stone@cms.hhs.gov.

Dated: July 18, 2007.
William Saunders,
Acting Deputy Director, Office of Information Services, Centers for Medicare & Medicaid Services.

[FR Doc. E7-14631 Filed 7-27-07; 8:45 am]

BILLING CODE 4120-03-P